DEPARTMENT OF HEALTH AND HUMAN SERVICES

Administration for Community Living

Agency Information Collection Activities: Proposed Collection; Public Comment Request; of the Review of the National Standards for Culturally and Linguistically Appropriate Services (CLAS) at ACL [OMB #0985-New]

AGENCY: Administration for Community Living, Department of Health and Human Services.

ACTION: Notice.

SUMMARY: The Administration for Community Living (ACL) is announcing an opportunity for the public to comment on the proposed collection of information listed above. Under the Paperwork Reduction Act of 1995 (PRA), Federal agencies are required to publish a notice in the Federal Register concerning each proposed collection of information, including each proposed extension of an existing collection of information, and to allow 60 days for public comment in response to the notice. This IC solicits comments on the information collection requirements relating to the Review of the National Standards for Culturally and Linguistically Appropriate Services (CLAS) at ACL.

DATES: Comments on the collection of information must be submitted electronically by 11:59 p.m. (EST) or postmarked by August 30, 2022.

ADDRESSES: Submit electronic comments on the collection of information to: Kristen Hudgins, Kristen.Hudgins@acl.hhs.gov, 202-795-7732. Submit written comments on the collection of information to Administration for Community Living, 330 C Street SW, Washington, DC 20201, Attention: Kristen Hudgins.

FOR FURTHER INFORMATION CONTACT: Kristen Hudgins, Kristen.Hudgins@acl.hhs.gov, 202-795-7732

SUPPLEMENTARY INFORMATION: Under the PRA (44 U.S.C. 3501-3520), Federal agencies must obtain approval from the Office of Management and Budget (OMB) for each collection of information they conduct or sponsor. “Collection of information” is defined in 44 U.S.C. 3502(3) and 5 CFR 1320.3(c) and includes agency requests or requirements that members of the public submit reports, keep records, or provide information to a third party. The PRA requires Federal agencies to provide a 60-day notice in the Federal Register concerning each proposed collection of information, including each proposed extension of an existing collection of information, before submitting the collection to OMB for approval. To comply with this requirement, ACL is publishing a notice of the proposed collection of information set forth in this document.

With respect to the following collection of information, ACL invites comments on our burden estimates or any other aspect of this collection of information, including:

(1) whether the proposed collection of information is necessary for the proper performance of ACL's functions, including whether the information will have practical utility;

(2) the accuracy of ACL's estimate of the burden of the proposed collection of information, including the validity of the methodology and assumptions used to determine burden estimates;

(3) ways to enhance the quality, utility, and clarity of the information to be collected; and

(4) ways to minimize the burden of the collection of information on respondents, including through the use of automated collection techniques when appropriate, and other forms of information technology.

The Administration for Community Living (ACL) is currently engaged in an effort to better understand how ACL programs support grantees to apply CLAS Standards and related diversity, equity, and inclusion (DEI) priorities in their programming. While the previous research effort focused on the perspective of ACL staff and national associations and advocacy organizations; this new IC will focus on a broader scope of respondents. In this IC, ACL will be reaching out to ACL-funded grantees. By capturing the perspectives of these grantees, this research aims to build on both our current knowledge of the CLAS Standards and DEI landscape at ACL, as well as to enhance our understanding of how to support the aging and disability networks to strengthen their CLAS Standards and DEI practices and priorities.

The IC, as well as analyses of available NSOAAP, Annual Performance data or other ACL data, would help address the following key research questions:

1. Who does ACL serve?

a. How do ACL clients differ by demographic characteristics and/or social determinants of health (e.g., language, culture, race/ethnicity, age, disability status)?

b. Are there any gaps in the types of people (or clients) served?

2. How are ACL program grantees meeting the needs of these diverse people (or clients)?

a. What data do they collect that would help ensure they meet diverse client needs?

b. What resources do grantee organizations need to support the cultural and linguistic needs of their clients?

Five focus groups with ACL grantees, comprised of 8-10 participants each (with each participant representing one grantee entity), would be conducted to help ACL better understand the current service provider grantee landscape related to cultural and linguistic needs and other DEI activities. Data gathered from these focus groups would also help refine a web-based survey that would be administered to a minimum of 400 service provider grantees. The survey would allow for broader reach to help ACL understand both how provider grantees address diverse client needs and what additional resources provider grantee organizations may need to support the cultural, linguistic, and DEI needs of the people they serve. Together, these data will help ACL better understand how grantees are meeting the needs of their clients, as well as the extent of unmet CLAS/DEI needs that exist for clients and the extent to which those unmet needs may limit service access. The proposed data collection tools may be found on the ACL website for review at: https://www.acl.gov/about-acl/public-input.

Estimated Program Burden: ACL estimates the burden of this collection of information as follows:

The grantee focus groups will include no more than 50 individuals representing grantee organizations across the US. The burden for their participation is estimated at 1.5 hours per participant, for a total of 75 hours.

A minimum of 400 grantees are expected to respond to the web-based survey. The approximate burden for survey completion may be ten minutes per respondent for a total estimate of 4,000 minutes. The estimated survey completion burden includes time to review the instructions, read the questions and complete the responses.

IC Burden Chart
Respondent/data collection activity | Number of respondents | Responses per respondent | Hours per response | Annual burden hours
Grantee focus groups | 50 | 1 | 1.50 | 75.00
Web-based grantee survey | 400 | 1 | 0.16 | 66.67
Total | 480 | 1 | 1.66 | 141.67

Dated: June 27, 2022.
Alison Barkoff,
Acting Administrator and Assistant Secretary for Aging.

[FR Doc. 2022-14078 Filed 6-30-22; 8:45 am]

BILLING CODE 4154-01-P